DEPARTMENT OF HEALTH AND HUMAN SERVICES

Health Resources and Services Administration

Agency Information Collection Activities: Submission to OMB for Review and Approval; Public Comment Request; Information Collection Request Title: AIDS Drug Assistance Program Data Report, OMB No. 0915-0345—Extension

AGENCY: Health Resources and Services Administration (HRSA), Department of Health and Human Services (HHS).

ACTION: Notice

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than September 6, 2017.

ADDRESSES: Submit your comments, including the ICR Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: When submitting comments or requesting information, please include the information request collection title for reference, in compliance with Section 3506(c)(2)(A) of the Paperwork Reduction Act of 1995.

Information Collection Request Title: AIDS Drug Assistance Program Data Report OMB No. 0915-0345—Extension.

Abstract: HRSA's AIDS Drug Assistance Program (ADAP) is funded through the Ryan White HIV/AIDS Program (RWHAP), Part B, Title XXVI of the Public Health Service Act, which provides grants to states and territories. The ADAP provides medications for the treatment of HIV. Program funds may also be used to purchase health insurance for eligible clients and for services that enhance access, adherence, and monitoring of HIV drug treatments. The following states, territories, and Pacific Island jurisdictions are eligible to apply for RWHAP ADAP funding: All 50 states, the District of Columbia, the Commonwealth of Puerto Rico, the U.S. Virgin Islands, Guam, American Samoa, the Commonwealth of the Northern Mariana Islands, the Republic of Palau, the Federated States of Micronesia, and the Republic of the Marshall Islands. As part of the funding requirements, ADAP grant recipients submit reports concerning information on patients served, eligibility requirements, pharmaceuticals prescribed, pricing and other sources of support to provide HIV medication treatment, cost data, and coordination with Medicaid. The ADAP Data Report (ADR) will be submitted annually and consists of a Grantee Report and a client-level data file. HRSA is requesting an extension of the ADR with minor revisions to patient/client eligibility requirements, which will align data reporting with the Ryan White HIV/AIDS Services Report. Specifically, within Client Variables in the client-level data file:

• Deletion of variable ID 7, “Transgender”

• Addition of “Transgender Male to Female”, “Transgender Female to Male”, and “Transgender Other” as response options for variable ID 6, “Gender”

Need and Proposed Use of the Information: The RWHAP requires the submission of annual reports by the Secretary of Department of Health and Human Services (HHS) to the appropriate committees of Congress. The collection of recipient-level and client level data enables HRSA to more effectively respond to requests from the Secretary of HHS. In addition, client-level information is needed by HRSA to review program performance and inform strategic planning. Client-level data is also needed to support the monitoring of national goals to end the HIV epidemic: Reduce new HIV infections; increase access to care and optimize health outcomes for people living with HIV; reduce HIV-related health disparities and health inequities; and achieve a more coordinated national response to the HIV epidemic.

Likely Respondents: State ADAP grant recipients of Ryan White HIV/AIDS Program Part B funding.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Grantee Report | 54 | 1 | 54 | 6 | 324
Client-level File | 54 | 1 | 54 | 81 | 4,374
Total | * 54 |  | 54 |  | 4,698
* The same respondents complete the Grantee Report and the Client-level Report.

Amy McNulty,
Acting Director, Division of the Executive Secretariat.

[FR Doc. 2017-16495 Filed 8-4-17; 8:45 am]

BILLING CODE 4165-15-P